FEDERAL COMMUNICATIONS COMMISSION

47 CFR Part 73

[MB Docket No. 12-92; RM-11650; DA 12-552]

Radio Broadcasting Services; Centerville and Midway, TX

AGENCY: Federal Communications Commission.

ACTION: Proposed rule.

SUMMARY: This document requests comments on a petition for rulemaking filed by Katherine Pyeatt, proposing the allotment of Channel 267A at Midway, Texas, as its first local service; and the substitution of Channel 232A for vacant Channel 267A at Centerville, Texas to accommodate the proposed Midway allotment. Channel 267A can be allotted to Midway consistent with the minimum distance separation requirements of the Rules with a site restriction 7.6 kilometers (4.7 miles) northwest of the community. The reference coordinates for Channel 267A at Midway are 31-03-42 NL and 95-49-06 WL. Additionally, Channel 232A can be allotted to Centerville consistent with the minimum distance separation requirement of the Rules with a site restriction 10.6 kilometers (6.6 miles) northwest of Centerville. The reference coordinates for Channel 232A at Centerville are 31-19-03 NL and 96-03-54 WL.

DATES: Comments must be filed on or before May 29, 2012, and reply comments on or before June 13, 2012.

ADDRESSES: Secretary, Federal Communications Commission, 445 12th Street SW., Washington, DC 20554. In addition to filing comments with the FCC, interested parties should serve the petitioner as follows: Katherine Pyeatt, 2215 Cedar Springs Road, #1605, Dallas, Texas 75201.

FOR FURTHER INFORMATION CONTACT: Rolanda F. Smith, Media Bureau, (202) 418-2700.

SUPPLEMENTARY INFORMATION: This is a synopsis of the Commission's Notice of Proposed Rule Making, MB Docket No. 12-92, adopted April 5, 2012, and released April 6, 2012. The full text of this Commission decision is available for inspection and copying during normal business hours in the FCC's Reference Information Center at Portals II, CY-A257, 445 Twelfth Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Texas, is amended by removing Channel 267A and by adding Channel 232A at Centerville; and by adding Midway, Channel 267A.

[FR Doc. 2012-10269 Filed 4-26-12; 8:45 am]

BILLING CODE 6712-01-P